DEPARTMENT OF COMMERCE

National Oceanic and Atomospheric Administration

50 CFR Parts 600 and 660

[Docket No. 011231209-2090-01; I.D. 062702C]

Magnuson-Stevens Act Provisions; Fisheries Off the West Coast States and in the Western Pacific; Pacific Coast Groundfish Fishery; Groundfish Fishery Management Measures; Corrections

AGENCY: National Marine Fisheries Service (NMFS), National Oceanic and Atmospheric Administration (NOAA), Commerce.

ACTION: Corrections to trip limit adjustments in the Pacific Coast groundfish fishery.

SUMMARY: This document contains corrections to trip limit tables in the trip limit adjustments in the Pacific Coast groundfish fishery published on July 5, 2002.

DATES: Effective July 25, 2002.

FOR FURTHER INFORMATION CONTACT: Carrie Nordeen, NMFS, (206) 526-6140.

SUPPLEMENTARY INFORMATION: Changes to current groundfish management measures were recommended by the Pacific Fishery Management Council, in consultation with Pacific Coast Treaty Tribes and the States of Washington, Oregon, and California, at its June 18-21, 2002, meeting in Foster City, CA. Adjustments to trip limits were made to slow the catch of overfished species, particularly darkblotched and bocaccio rockfish, and keep it within the optimum yield (OY) and acceptable biological catch (ABC). The specifications and management measures for the current fishing year (January 1 - December 31, 2002) were initially published in the Federal Register as an emergency rule for January 1 - February 28, 2002 (67 FR 1540, January 11, 2002), and as a proposed rule for all of 2002 (67 FR 1555, January 11, 2002), then finalized effective March 1, 2002 (67 FR 10490, March 7, 2002). The final rule was subsequently amended at 67 FR 15338, April 1, 2002; at 67 FR 18117, April 15, 2002; at 67 FR 30604, May 7, 2002; at 67 FR 40870, June 14, 2002; and at 67 FR 44778, July 5, 2002.

Trip limit adjustments published on July 5, 2002, contained errors in trip limit tables that require correction. This document corrects the errors and re-publishes trip limit tables for groundfish taken with limited entry trawl gear, limited entry fixed gear, and open access gear.

Corrections

In the rule FR Doc. 02-16811, in the issue of Friday, July 5, 2002 (67 FR 44778) make the following corrections:

1. On pages 44782 - 44784, Tables 3 and 4, respectively, are corrected to read as follows:

BILLING CODE 3510-22-S

2. On page 44785, Table 5 and its footnotes are corrected to read as follows:

Authority: 16 U.S.C. 1801 et seq.

Dated: July 19, 2002.
Virginia M. Fay,
Acting Director, Office of Sustainable Fisheries, National Marine Fisheries Service.

[FR Doc. 02-18858 Filed 7-24-02; 8:45 am]

BILLING CODE 3510-22-C